DEPARTMENT OF HEALTH AND HUMAN SERVICES

Centers for Disease Control and Prevention

[30Day-24-0950]

Agency Forms Undergoing Paperwork Reduction Act Review

In accordance with the Paperwork Reduction Act of 1995, the Centers for Disease Control and Prevention (CDC) has submitted the information collection request titled “National Health and Nutrition Examination Survey (NHANES)” to the Office of Management and Budget (OMB) for review and approval. CDC previously published a “Proposed Data Collection Submitted for Public Comment and Recommendations” notice on May 13, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Health and Nutrition Examination Survey (NHANES) (OMB Control No. 0920-0950, Exp. 04/30/2025)—Revision — National Center for Health Statistics (NCHS), Centers for Disease Control and Prevention (CDC).

Background and Brief Description

Section 306 of the Public Health Service (PHS) Act (42 U.S.C. 242k) authorizes that the Secretary of Health and Human Services (DHHS), acting through NCHS, collect statistics on subjects in the United States, such as the extent and nature of illness and disability of the population; environment, social, and other health hazards; determinants of health; health resources; and utilization of healthcare. The National Health and Nutrition Examination Survey (NHANES) has been conducted periodically between 1970 and 1994, and continuously since 1999 by the National Center for Health Statistics, CDC.

NHANES produces descriptive statistics, which measure the health and nutritional status of the general population. With personal interviews, physical examinations, and laboratory assessments, NHANES studies the relationship between diet, nutrition, and health in a representative sample of the United States. NHANES monitors the prevalence of chronic conditions and risk factors and is used to produce national reference data on height, weight, and nutrient levels in the blood. Results from more recent NHANES can be compared to findings reported from previous surveys to monitor changes in the health of the U.S. population over time. In 2025-2026, the program is not considering any substantive changes to NHANES content or procedures. As in previous years, the base sample will remain at approximately 5,000 individuals interviewed and examined, annually. Children 0-17 years of age, persons 65 years of age or older, and non-Hispanic Black persons will be oversampled in the 2025-2026 survey. NCHS collects personally identifiable information (PII). Participant level data items will include basic demographic information, name, address, social security number, Medicare number and participant health information to allow for linkages to other data sources such as the National Death Index and data from the Centers for Medicare and Medicaid Services.

A variety of agencies sponsor data collection components on NHANES. In the 2025-2026 clearance proposal, the Program modified, added, or removed various components that were included in the August 2021-August 2023 NHANES to update and modernize processes for data collection. NHANES staff conducted a thorough review of the survey participant and household questionnaire content and made changes to focus on retaining questions that are to be used in combination with specific exam or lab data collected in the survey, as independent prevalence estimates, or as covariates in statistical analyses (e.g., sociodemographic characteristics). Further review of all data collection instruments was done to update wording, update age restrictions for the respondent universe, align wording across instruments, eliminate duplicate questions, improve interview flow, and reduce respondent burden.

With the construction of a new fleet of five mobile examination centers (MECs) with updated designs, the 2025-2026 exam components will include post consent-questions, anthropometry, oscillometer measurements, venipuncture, urine collection, MEC CAPI and ACASI questions, body composition, respiratory health, audiometry, visual acuity and ophthalmology, oral health, HPV oral rinse and DNA genital swab collection, and water fluoride testing. Liver elastography, urine testing for several sexually transmitted infections, serology testing for HPV and CMV antibodies, and MEC follow-up questionnaires were dropped.

First Dietary Recall interviews, the Flexible Consumer Behavior Survey, and the Second Dietary Recall interviews will be conducted via telephone either before or after the MEC visit, which is a new approach for the 2025-2026 survey. If the participant does not schedule their dietary interviews at the end of their household interview, the MEC staff will attempt to schedule these appointments at the end of the examination. This option provides more flexibility to complete the interviews, which may improve completion rates. Program staff will monitor response rates closely to assess whether scheduling dietary interviews after the household interviews has an impact on response rates for dietary interviews and/or MEC exams.

Although a few laboratory tests are new or have been removed in 2025-2026, most remain but have been modified. Predominantly, modifications are the result of adjustments in age eligibility. Several laboratory tests that have not been modified include CBC, hemoglobin variants, HIV, cadmium, and lead. RBC folate forms, LDC cholesterol, and chlamydia are examples of tests that have been removed for 2025-2026. New laboratory tests include B vitamins, choline and metabolites, and aldosterone. The biospecimens collected for laboratory tests include urine and blood. Serum, plasma, DNA, and urine specimens will be stored for future testing if the participant provides consent.

NHANES may conduct developmental projects during NHANES 2025-2026, with a focus on planning for NHANES 2027 and beyond. These may include activities such as tests of new equipment, crossover studies between current and proposed methods, tests of different study modes, settings or technology, outreach materials, incentive strategies, sample storage and processing or sample designs.

Burden for individuals in 2025-2026 NHANES will vary based on their level of participation. For example, infants and children tend to have shorter interviews and exams than adults. This is because young people may have fewer health conditions or medications to report so their interviews take less time or because certain exams are only conducted on survey participants 18 and older, etc. In addition, adults often serve as proxy respondents for young people in their families.

Participation in NHANES is voluntary and confidential. The Program is requesting a three-year approval, with 36,540 annualized hours of burden in this clearance proposal.

Estimated Annualized Burden Hours
Type of respondents | Form name | Number of respondents | Number of responses per respondent | Average burden per response (in hours)
Individuals in households | Household Screener Questionnaire | 6,398 | 1 | 7/60
Individuals in households | Survey Participant Questionnaire; & Household Questionnaire | 5,882 | 1 | 1
Individuals in households | MEC Examination & Interview Data Collection Forms | 5,000 | 1 | 2
Individuals in households | Day1 Dietary Instrument; MEC Dietary Recruitment Scheduling Instrument; Dietary Front-End Instrument; Dietary Incentives and Scheduling Instrument; MEC Dietary Reminder Call-in Instrument; & Flexible Consumer Behavior Survey (FCBS) Instrument | 5,882 | 1 | 1
Individuals in households | Day2 Dietary Instrument | 5,882 | 1 | 36/60
Individuals in households | Developmental Projects & Special Studies | 3,500 | 1 | 3

Jeffrey M. Zirger,
Lead, Information Collection Review Office, Office of Public Health Ethics and Regulations, Office of Science, Centers for Disease Control and Prevention.

[FR Doc. 2024-22473 Filed 9-30-24; 8:45 am]

BILLING CODE 4163-18-P